DEPARTMENT OF ENERGY

Federal Energy Regulatory Commission

[Project No. 696-013—Utah]

PacifiCorp; Notice of Availability of Environmental Assessment

August 5, 2004.

In accordance with the National Environmental Policy Act of 1969 and the Federal Energy Regulatory Commission's (Commission) regulations, 18 CFR part 380 (Order No. 486, 52 FR 47897), the Office of Energy Projects has reviewed the application for surrender of the license for the American Fork Hydroelectric Project and has prepared a Environmental Assessment (EA) for the project. The project is located on American Fork Creek, near the City of American Fork, about three miles east of Highland, in Utah County, Utah. The project occupies about 28.8 acres of land within the Uinta National Forest, administered by the U.S. Forest Service, and approximately 2,000 feet of the project's flowline passes through the Timpanogos Cave National Monument, administered by the U.S. Department of the Interior, National Park Service.

The EA contains the staff's analysis of the potential environmental impacts of the application and concludes that surrendering the project, with the appropriate environmental protective measures, would not constitute a major Federal action that would significantly affect the quality of the human environment.

A copy of the EA is attached to a Commission order titled “Order Granting Surrender Application and Approving Project Removal Plan,” which was issued August 4, 2004, and is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E4-1803 Filed 8-11-04; 8:45 am]

BILLING CODE 6717-01-P